DEPARTMENT OF COMMERCE

International Trade Administration

U.S.-Nigeria Commercial and Investment Dialogue

AGENCY: International Trade Administration (ITA), U.S. Department of Commerce (DOC).

ACTION: Notice of an opportunity to apply to participate in the U.S.-Nigeria Commercial and Investment Dialogue.

Authority: 22 U.S.C. 2395(b).

SUMMARY: The U.S. Department of Commerce is currently seeking applications for members of the U.S. private sector to participate in the newly established U.S.-Nigeria Commercial and Investment Dialogue (CID). The purpose of the CID is to deepen the trade and investment ties between the U.S. and Nigeria and to foster sustained engagement between our governments on concrete issues of importance to our private sectors.

DATES: All applications for immediate consideration for appointment must be received by the Office of Africa by 5:00 p.m. Eastern Standard Time (EST) on January 10, 2017 After that date, ITA will continue to accept applications under this notice for a period of up to three years from

ADDRESSES: Please submit applications by email to Karen.Burress@trade.gov, attention: Karen Burress, Office of Africa or by mail to Karen Burress, Office of Africa, 1401 Constitution Avenue NW., Suite 22004, Washington, DC 20230.

SUPPLEMENTARY INFORMATION: The CID has two key objectives which include: (1.) Encourage and promote deeper commercial and investment ties between the U.S. and Nigerian private sectors; and (2.) examine key regulatory reforms and policy elements that can help attract U.S. businesses and investors. Currently, the CID has five key areas of focus which are infrastructure, agriculture, digital economy, investment and regulatory reform.

The participants shall contribute information, analysis, and recommendations based on current in-country experience in the Nigerian market that address the five key areas of focus. The Department particularly seeks applicants who are active executives (Chief Executive Officer, Executive Chairman, President or comparable level of responsibility); however, for large companies, a person having substantial responsibility for the company's commercial activities in Nigeria will also be considered.

For eligibility purposes, a “U.S. company” is a for-profit firm incorporated in the United States or with its principal place of business in the United States that is (a) majority controlled (more than 50 percent ownership interest and/or voting stock) by U.S. citizens or by another U.S. entity or (b) majority controlled (more than 50 percent ownership interest and/or voting stock) directly or indirectly by a foreign parent company. Members are not required to be a U.S. citizen; however, members may not be registered as a foreign agent under the Foreign Agents Registration Act. Additionally, no member shall represent a company that is majority owned or controlled by a foreign government entity or entities.

Private sector participants will be selected, in accordance with applicable Department of Commerce guidelines, based on their ability to carry out the objectives of the CID as set forth above.

Private sector participants shall serve in a representative capacity, representing the views and interests of their particular industry sector. The private sector participants are not special government employees, and will receive no compensation for their participation in the CID activities. The private sector participants participating in CID meetings and events will be responsible for their travel, living and other personal expenses. Meetings will be held twice annually on an alternating basis between Washington, DC, and Nigeria. Teleconference meetings may also be held as needed.

To be considered, submit the following information by 5:00 p.m. EDT on January 10, 2017 to the email or mailing address listed in the ADDRESSES section:

1. Name and title of the individual requesting consideration.

2. The applicant's personal resume and short bio (less than 300 words).

3. Brief statement describing how the applicant will contribute to the work of the U.S.-Nigeria Commercial and Investment Dialogue based on his or her unique experience and perspective (not to exceed 100 words).

4. An affirmative statement that the applicant meets all eligibility criteria, including an affirmative statement that the applicant is not required to register as a foreign agent under the Foreign Agents Registration Act of 1938, as amended.

5. Information regarding the ownership and control of the company, including the stock holdings as appropriate, signifying compliance with the criteria set forth above.

6. The company's size, product or service line, and major markets in which the company operates.

7. A profile of the company's trade, investment, development, finance, partnership, or other commercial activities in or with African markets.

Statutory Authority: This program is funded under Section 632(a) of the Foreign Assistance Act of 1961, as amended (the “FAA”), and the Department of State, Foreign Operations, and Related Programs Appropriations Act, 2010 (Pub. L. 111-117) to carry out the provisions of the FAA and the FREEDOM Support Act, as amended.

Dated: December 22, 2016.
Fred Stewart,
Director, Office of Africa, U.S. Department of Commerce.

[FR Doc. 2016-31664 Filed 12-28-16; 8:45 am]

BILLING CODE 3510-HE-P